DEPARTMENT OF ENERGY

Federal Energy Regulatory Commission

[Project No. 199-205]

South Carolina Public Service Authority; Notice of Settlement Agreement and Soliciting Comments

May 30, 2007.

Take notice that the following settlement agreement has been filed with the Commission and is available for public inspection.

a. Type of Application: Settlement Agreement.

b. Project Nos.: P-199-205.

c. Date filed: May 24, 2007.

d. Applicant: South Carolina Public Service Authority (SCPSA).

e. Name of Project: Santee Cooper Hydroelectric Project.

f. Location: On the Santee and Cooper Rivers in Berkeley, Calhoun, Clarendon, Orangeburg, and Sumter Counties in South Carolina, about 50 miles north of Charleston and 60 miles southeast of Columbia, South Carolina. The project does not affect federal lands.

g. Filed Pursuant to: Rule 602 of the Commission's Rules of Practice and Procedure, 18 CFR 385.602.

h. Applicant Contact: Mr. John Dulude, P.E., South Carolina Public Service Authority, One Riverwood Plaza, P.O. Box 2946101, Moncks Corner, SC 29461-2901; (843) 761-4046.

i. FERC Contact: Monte TerHaar at monte.terhaar@ferc.gov, or (202) 502-6035.

j. Deadline for filing comments: June 18, 2007. Reply comments due July 3, 2007.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. SCPSA filed a settlement on behalf of itself, the U.S. Fish and Wildlife Service (FWS), and the South Carolina Department of Natural Resources (SCDNR). The purpose of the settlement agreement is to resolve, among the signatories, issues associated with issuance of a new license for the project, including diadromous fish passage and management, as well as instream flows for the Santee River. Major issues covered in the settlement include: (1) FWS's revised section 18 fishway prescription; (2) withdrawal of FWS's preliminary section 4(e) conditions; (3) minimum flow releases from the Santee Dam to the Santee River, including establishment of a technical advisory committee; (4) development of a low flow operating protocol; and (5) twelve measures to address waterfowl management and recreation boating at the Santee National Wildlife Refuge.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. E7-10807 Filed 6-5-07; 8:45 am]

BILLING CODE 6717-01-P